DEPARTMENT OF COMMERCE

International Trade Administration

[C-570-113]

Certain Collated Steel Staples From the People's Republic of China: Final Results of Countervailing Duty Administrative Review; 2021

AGENCY: Enforcement and Compliance, International Trade Administration, Department of Commerce.

SUMMARY: The U.S. Department of Commerce (Commerce) determines that countervailable subsidies were provided to producers and exporters of certain collated steel staples (collated staples) from the People's Republic of China (China) during the period of review (POR) from January 1, 2021, through December 31, 2021.

DATES: Applicable December 22, 2023.

FOR FURTHER INFORMATION CONTACT: Jinny Ahn or Shane Subler, AD/CVD Operations, Office VIII, Enforcement and Compliance, International Trade Administration, Department of Commerce, 1401 Constitution Avenue NW, Washington, DC 20230; telephone: (202) 482-0339 or (202) 482-6241, respectively.

SUPPLEMENTARY INFORMATION:

Background

On July 7, 2023, Commerce published the Preliminary Results.¹ For a complete description of the events that occurred subsequent to the Preliminary Results, see the Issues and Decision Memorandum.² On October 16, 2023, in accordance with section 751(a)(3)(A) of the Tariff Act of 1930, as amended (the Act), Commerce extended the deadline for issuing the final results until December 15, 2023.³

¹ See Certain Collated Steel Staples from the People's Republic of China: Preliminary Results and Partial Rescission of the Countervailing Duty Administrative Review; 2021, 88 FR 43288 (July 7, 2023) (Preliminary Results), and accompanying Preliminary Decision Memorandum.

² See Memorandum, “Issues and Decision Memorandum for the Final Results of the 2021 Countervailing Duty Administrative Review of Certain Collated Steel Staples from the People's Republic of China,” dated concurrently with, and hereby adopted by, this notice (Issues and Decision Memorandum).

³ See Memorandum, “Extension of Deadline for the Final Results of Countervailing Duty Administrative Review; 2021,” dated October 16, 2023.

Scope of the Order ⁴

⁴ See Certain Collated Steel Staples from the People's Republic of China: Countervailing Duty Order, 85 FR 43813 (July 20, 2020) (Order).

The merchandise subject to the Order is collated staples from China. A full description of the scope of the Order is contained in the Issues and Decision Memorandum.

Analysis of Comments Received

All issues raised by interested parties in briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made certain revisions to the countervailable subsidy rate calculations for Tianjin Hweschun Fasteners Manufacturing Co. Ltd. (Tianjin Hweschun), the sole mandatory respondent in this review.⁵ As a result of the changes to Tianjin Hweschun's program rates, the final rate for the four companies under review which were not selected for individual examination also changed.⁶ These changes are explained in the Issues and Decision Memorandum.

⁵ See Memorandum, “Final Results Calculations for Tianjin Hweschun Fasteners Manufacturing Co., Ltd.,” dated concurrently with this notice; see also Preliminary Results, 88 FR at 43289.

⁶ The four non-selected companies under review are: Ningbo Pacrim Manufacturing Co., Ltd., Shanghai Jade Shuttle Hardware, Shaoxing Bohui Import Export Co., Ltd., and Youngwoo (Cangzhou) Fasteners Co., Ltd. See Preliminary Results, 88 FR at 43289.

Methodology

Commerce is conducting this review in accordance with section 751(a)(1)(A) of the Act. For each of the subsidy programs found countervailable, we find that there is a subsidy, i.e., a government-provided financial contribution that gives rise to a benefit to the recipient, and that the subsidy is specific.⁷ The Issues and Decision Memorandum contains a full description of the methodology underlying Commerce's conclusions, including any determination that relied upon the use of adverse facts available pursuant to sections 776(a) and (b) of the Act.

⁷ See sections 771(5)(B) and (D) of the Act regarding financial contribution; section 771(5)(E) of the Act regarding benefit; and section 771(5A) of the Act regarding specificity.

Companies Not Selected for Individual Review

The statute and Commerce's regulations do not address the establishment of a rate to be applied to companies not selected for individual examination when Commerce limits its examination in an administrative review pursuant to section 777A(e)(2) of the Act. Generally, Commerce looks to section 705(c)(5) of the Act, which provides instructions for determining the all-others rate in an investigation, for guidance when calculating the rate for companies which were not selected for individual examination in an administrative review. Under section 705(c)(5)(A) of the Act, the all-others rate is normally an amount equal to the weighted average of the countervailable subsidy rates established for exporters and producers individually investigated, excluding any zero or de minimis countervailable subsidy rates, and any rates determined entirely on the basis of facts available.

As stated above, there are four companies for which a review was requested and not rescinded, and which were not selected as mandatory respondents or found to be cross-owned with the mandatory respondent. Because the rate calculated for the only mandatory respondent in this review, Tianjin Hweschun, was above de minimis and not based entirely on facts available, we are applying Tianjin Hweschun's subsidy rate to these non-selected companies,. This methodology used to establish the rate for the non-selected companies is consistent with our practice regarding the calculation of the all-others rate, pursuant to section 705(c)(5)(A)(i) of the Act.

This is the same methodology Commerce applied in the Preliminary Results for determining a rate for companies not selected for individual examination. However, due to changes in the calculation for Tianjin Hweschun, we revised the non-selected rate accordingly. Consequently, for the four companies not selected for individual examination and for which the review was not rescinded, we are applying an ad valorem subsidy rate of 50.58 percent.

Final Results of Review

We find the net countervailable subsidy rates for the mandatory and non-selected respondents under review for the period of January 1, 2021, through December 31, 2021, to be as follows:

Producer/exporter | Subsidy rate (percent ad valorem)
Tianjin Hweschun Fasteners Manufacturing Co., Ltd | 50.58
Review-Specific Rate Applicable to Non-Selected Companies
Ningbo Pacrim Manufacturing Co., Ltd | 50.58
Shanghai Jade Shuttle Hardware | 50.58
Shaoxing Bohui Import Export Co., Ltd | 50.58
Youngwoo (Cangzhou) Fasteners Co., Ltd | 50.58

Disclosure

We intend to disclose the calculations and analysis performed in connection with the final results of review to parties to the proceeding within five days of the date of publication of this notice in accordance with 19 CFR 351.224(b).

Assessment Rates

Pursuant to section 751(a)(2)(C) of the Act and 19 CFR 351.212(b), Commerce has determined, and U.S. Customs and Border Protection (CBP) shall assess, countervailing duties on all appropriate entries of subject merchandise in accordance with the final results of this review for the above-listed companies at the applicable ad valorem assessment rates listed. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amounts shown for each of the respective companies listed above on shipments of subject merchandise entered, or withdrawn from warehouse, for consumption on or after the date of publication of the final results of this administrative review. For all non-reviewed firms subject to the Order, we will instruct CBP to continue to collect cash deposits of estimated countervailing duties at the most recent company-specific or all-others rate applicable to the company, as appropriate. These cash deposit requirements, effective upon publication of the final results of review, shall remain in effect until further notice.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5).

Dated: December 15, 2023.
Abdelali Elouaradia,
Deputy Assistant Secretary for Enforcement and Compliance.

Appendix

List of Topics Discussed in the Issues and Decision Memorandum

I. Summary

II. Background

III. Scope of the Order

IV. Diversification of China's Economy

V. Use of Facts Otherwise Available and Application of Adverse Inferences

VI. Subsidies Valuation Information

VII. Benchmarks

VIII. Analysis of Programs

IX. Discussion of the Issues

Comment 1: Whether Commerce Should Apply Adverse Facts Available (AFA) to the Provision of Wire Rod and Galvanized Steel Wire for Less Than Adequate Remuneration (LTAR) Programs

Comment 2: Whether Commerce Should Apply AFA to the Provision of Electricity for LTAR Program

Comment 3: Whether Commerce Should Apply AFA to the Export Buyer's Credit (EBC) Program

Comment 4: Whether Commerce Should Apply AFA to the Provision of Land-Use Rights to Favored Industries for LTAR Program for Financial Contribution and Specificity

Comment 5: Whether Commerce Should Apply AFA to “Other Subsidies”

Comment 6: Whether Commerce Should Remove Inland Freight and Value-Added Taxes (VAT) from the Wire Rod and Galvanized Steel Wire Benchmarks

Comment 7: Whether Tianjin Hweschun Received a Benefit Under the Provision of Land-Use Rights to Favored Industries for LTAR Program

X. Recommendation

[FR Doc. 2023-28209 Filed 12-21-23; 8:45 am]

BILLING CODE 3510-DS-P